DEPARTMENT OF AGRICULTURE

Food and Nutrition Service

Agency Information Collection Activities: Assessing Supplemental Nutrition Assistance Program (SNAP) Participants' Fitness for Work

AGENCY: Food and Nutrition Service (FNS), USDA.

ACTION: Notice.

SUMMARY: In accordance with the Paperwork Reduction Act of 1995, this notice invites the general public and other public agencies to comment on this proposed information collection. This is a new collection for: (1) Documenting the policies and guidelines used for making fitness for work determinations by all 53 State Agencies, which include the States, the District of Columbia, the U.S. Virgin Islands, and Guam; (2) describing the process State Agencies use for making fitness for work determinations; (3) determining any general patterns and trends in fitness for work and good cause determinations within and across four case study States; and (4) determining how closely caseworkers follow the States' fitness for work and good cause determination policies and requirements and the challenges they face in applying the policy in four case study States.

DATES: Written comments must be received on or before September 27, 2021.

ADDRESSES: Comments may be sent to: Eric Sean Williams, Food and Nutrition Service, U.S. Department of Agriculture, 1320 Braddock Place, Alexandria, VA 22314, 703-305-2640. Comments may also be submitted via email to eric.williams@usda.gov. Comments will also be accepted through the Federal eRulemaking Portal. Go to http://www.regulations.gov, and follow the online instructions for submitting comments electronically. All responses to this notice will be summarized and included in the request for Office of Management and Budget approval. All comments will be a matter of public record.

SUPPLEMENTARY INFORMATION: Comments are invited on: (a) Whether the proposed collection of information is necessary for the proper performance of the functions of the agency, including whether the information shall have practical utility; (b) the accuracy of the agency's estimate of the burden of the proposed collection of information, including the validity of the methodology and assumptions that were used; (c) ways to enhance the quality, utility, and clarity of the information to be collected; and (d) ways to minimize the burden of the collection of information on those who are to respond, including use of appropriate automated, electronic, mechanical, or other technological collection techniques or other forms of information technology.

Title: Assessing SNAP Participants' Fitness for Work.

Form Number: Not Applicable.

OMB Number: 0584-NEW.

Expiration Date: Not Yet Determined.

Type of Request: New Collection.

Abstract: The Food and Nutrition Act of 2008 requires that Supplemental Nutritional Assistance Program (SNAP) participants between the ages 16 and 59 to meet certain work requirements, unless they are exempt or show good cause as to why they cannot work. Whether a participant is required to meet these work requirements is based upon a SNAP eligibility worker (caseworker) making a determination whether an individual is exempt from these work requirements, including a determination whether the individual is physically or mentally unfit for work. The U.S. Department of Agriculture (USDA) Food and Nutrition Service (FNS) offers general guidance and States develop their own policies and procedures with little input from FNS. States are given a great degree of latitude in making determinations regarding unfitness for work exemptions. FNS has contracted with MEF Associates and its subcontractor, Mathematica, to conduct a study to better understand how States determine whether individuals are exempted from work requirements or have good cause for not meeting work requirements due to a physical or mental limitation. By surveying all 53 State SNAP Agencies, which include the States, the District of Columbia, the U.S. Virgin Islands, and Guam, and conducting in-depth case studies of four States, this study will provide FNS with valuable insights into how States develop and implement policies and procedures for making fitness for work determinations. This information can help FNS assess States' needs for technical assistance around fitness for work issues and identify lessons learned to share across all State SNAP Agencies.

Affected Public: Members of the public affected by the data collection include individuals and households, State and local governments, and business, not-for-profit, or other for-profit Agencies administering SNAP E&T programs.

Survey: After survey recruitment, FNS anticipates 100 percent participation from the State government Agencies. We will reach out to 53 State or territory SNAP directors to complete a survey and anticipate that all these SNAP directors will agree to participate in the survey. Each SNAP director may designate up to three staff to complete sections of the survey, accounting for an additional 159 State or territory staff participating as respondents (212 survey respondents total). This is the highest possible number of survey respondents; FNS expects fewer to participate in the survey.

Case Studies: FNS will reach out to a maximum of six States Agencies to participate in in-depth case studies and expects four to participate. The case studies will involve semi-structured interviews with program administrators and staff of State SNAP agencies, local offices, and businesses or other agencies that provide SNAP E&T services. After recruiting the four state SNAP agencies, FNS expects two selected local SNAP agencies and two local SNAP E&T providers to participate in each State. The case studies will also include observations of staff-participant interactions during eligibility interviews. The eligibility interviews that will be observed will not be recorded and no personally identifiable information will be recorded during the observations. FNS expects that approximately 25 percent of individuals/households invited to participate will choose not to participate and oversampled to account for nonresponse.

Respondent groups identified for the survey and case studies include the following:

• State Agency SNAP Directors (53 survey respondents, 0 survey nonrespondents, 4 case study recruitment respondents, 2 case study recruitment nonrespondents, 4 case study interview respondents, and 0 case study nonrespondents).

• State Agency SNAP policy staff (159 survey respondents, 24 case study interview respondents, and 0 survey or case study nonrespondents).

• Local SNAP office administrator (8 case study respondents and 0 case study nonrespondents).

• Local SNAP office supervisor (8 case study respondents and 0 case study nonrespondents).

• Local SNAP office frontline staff (64 case study interview respondents and 0 case study interview nonrespondents, 8 case study one-on-one observation participants, 0 case study observation nonparticipants).

• Business—SNAP E&T provider administrators from business or other for profit agencies (4 case study interview respondents and 0 case study interview nonrespondents).

• Business—SNAP E&T provider supervisors from business or other for profit agencies (4 case study interview respondents and 0 case study interview nonrespondents).

• Business—SNAP E&T provider frontline staff from business or other for profit agencies (32 case study interview respondents and 0 case study interview nonrespondents).

• Business—SNAP E&T provider administrators from not for profit agencies (4 case study interview respondents and 0 case study interview nonrespondents).

• Business—SNAP E&T provider supervisors from not for profit agencies (4 case study interview respondents and 0 case study interview nonrespondents).

• Business—SNAP E&T provider frontline staff from not for profit agencies (32 case study interview respondents and 0 case study interview nonrespondents).

• Individual/household—SNAP applicants (24 case study one-on-one observation participants, 6 case study one-on-one observation nonrespondents).

Estimated Number of Respondents: The total estimated number of respondents is 408. This includes:

• 53 State or territory SNAP directors will be asked to complete the survey (100 percent of whom will complete the survey instrument) and a max of 6 of whom will participate in a case study recruitment call (75 percent of whom will then participate in a semi-structured interview).

• 159 State or territory SNAP policy staff will be asked to complete the survey (100 percent of whom will complete the survey instrument; 24 of whom will participate in a semi-structured interview).

• 8 local SNAP office administrators will participate in a semi-structured interview.

• 8 local SNAP office supervisors will participate in a semi-structured interview.

• 64 local SNAP office frontline staff will participate in a semi-structured interview (8 of whom will participate in one-on-one observations).

• 4 SNAP E&T provider administrators from business not-for-profit agencies will participate in a semi-structured interview.

• 4 SNAP E&T supervisors from business not-for-profit agencies will participate in a semi-structured interview.

• 32 SNAP E&T provider frontline staff from business not-for-profit agencies will participate in a semi-structured interview.

• 4 SNAP E&T provider administrators from business or other for-profit agencies will participate in a semi-structured interview.

• 4 SNAP E&T supervisors from business or other for-profit agencies will participate in a semi-structured interview.

• 32 SNAP E&T provider frontline staff from business or other for-profit agencies will participate in a semi-structured interview.

• 30 SNAP applicants (individuals/households) will be asked to participate in one-on-one observation (24 will go on to participate and 6 will not go on to fully participate).

Estimated Number of Responses per Respondent: 1.2425. Each respondent completing a survey section will do so only once. State SNAP directors recruited for the case studies will each participate in one recruitment call. Each case study interview respondent will participate in one semi-structured interview. Staff participating in observations will participate in one observation. SNAP applicants participating in observations will participate in one observation each.

Estimated Total Annual Responses: 497.

Estimated Time per Response: 0.622 hours.

The estimated time of response varies from 0.1667 to 4 hours (10 minutes to 240 minutes) depending on the respondent group and activity, as shown in the table below, with an average estimated time of 0.622 hours (37 minutes) for all responses. The average estimated time is calculated by dividing the 329 estimated total hours for responses in the table below by the 497 total estimated responses. The estimated average time for the non-respondent is 0.4 hours (24 minutes) for all non-responses. The average estimated time is calculated by dividing the 3.2 estimated total hours for non-respondents in the table below by the 8 total estimated non-responses.

Estimated Total Annual Burden on Respondents: 332 hours. See the table below for estimated total annual burden for each type of respondent by data collection activity including the non-responses.

BILLING CODE 3410-30-P

Timothy English,
Acting Administrator, Food and Nutrition Service.

[FR Doc. 2021-15912 Filed 7-27-21; 8:45 am]

BILLING CODE 3410-30-C